DEPARTMENT OF HOMELAND SECURITY

Coast Guard

[USCG-2007-28121]

Collection of Information Under Review by Office of Management and Budget: OMB Control Numbers: 1625-0025 and 1625-0058

AGENCY: Coast Guard, DHS.

ACTION: Request for comments.

SUMMARY: In compliance with the Paperwork Reduction Act of 1995, the U.S. Coast Guard intends to submit Information Collection Requests (ICRs) to the Office of Management and Budget (OMB) requesting an extension of their approval for the following collections of information: (1) 1625-0025, Carriage of Bulk Solids Requiring Special Handling—46 CFR part 148; and (2) 1625-0058, Application for Permit to Transport Municipal and Commercial Waste. Before submitting these ICRs to OMB, the Coast Guard is inviting comments as described below.

DATES: Comments must reach the Coast Guard on or before July 16, 2007.

ADDRESSES: To make sure your comments and related material do not enter the docket [USCG-2007-28121] more than once, please submit them by only one of the following means:

(1) By mail to the Docket Management Facility, U.S. Department of aTransportation (DOT), room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW, Washington, DC, between 9 a.m. and 5 p.m., Monday through Friday, except Federal holidays. You may also find this docket on the Internet at http://dms.dot.gov.

Copies of complete ICRs are available through this docket on the Internet at http://dms.dot.gov, and also from Commandant (CG-611), U.S. Coast Guard Headquarters, room 10-1236 (Attn: Mr. Arthur Requina), 2100 2nd Street SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-493-0402, for questions on the docket.

SUPPLEMENTARY INFORMATION:

Public Participation and Request for Comments

We encourage you to respond to this request by submitting comments and related materials. We will post all comments received, without change, to http://dms.dot.gov; they will include any personal information you provided. We have an agreement with DOT to use the Docket Management Facility. Please see the paragraph on DOT's “Privacy Act Policy” below.

Submitting comments: If you submit a comment, please include your name and address, identify the docket number [USCG-2007-28121], indicate the specific section of the document to which each comment applies, providing a reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: View comments and documents mentioned in this notice as being available in the docket, go to http://dms.dot.gov to view at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Carriage of Bulk Solids Requiring Special Handling—46 CFR Part 148.

OMB Control Number: 1625-0025.

Summary: The information specified in 46 CFR part 148 for an application for a Special Permit allows Coast Guard to determine the manner of safe carriage of unlisted materials. The information required by Dangerous Cargo Manifests and Shipping Papers permits vessel crews and emergency personnel to properly/safely respond to accidents involving hazardous substances. See §§ 148.02-1 and 148.02-3.

Need: The Coast Guard administers and enforces statutes and rules for the safe transport and stowage of hazardous materials, including bulk solids. See 49 U.S.C. 5103.

Respondents: Owners and operators of vessels that carry certain bulk solids.

Frequency: On occasion.

Burden Estimate: The estimated burden has decreased from 1,130 hours to 899 hours a year.

2. Title: Application for Permit to Transport Municipal and Commercial Waste.

OMB Control Number: 1625-0058.

Summary: This information collection provides the basis for issuing or denying a permit for the transportation of municipal or commercial waste in the coastal waters of the United States.

Need: In accordance with 33 U.S.C. 2602, the U.S. Coast Guard issued regulations requiring a vessel owner or operator to apply for a permit to transport municipal or commercial waste in the United States. Accordingly, the vessel owner or operator is required to display an identification number or other marking on their vessel as indicated in 33 CFR part 151, subpart B.

Respondents: Owners and operators of vessels.

Frequency: Every 18 months.

Burden Estimate: The estimated burden has increased from 69 hours to 116 hours a year.

Dated: May 8, 2007.
C.S. Johnson, Jr.,
Captain, U.S. Coast Guard, Acting Assistant Commandant for Command, Control, Communications Computers and Information Technology.

[FR Doc. E7-9494 Filed 5-16-07; 8:45 am]

BILLING CODE 4910-15-P